NUCLEAR REGULATORY COMMISSION

Notice of Availability; NUREG-1700, “Standard Review Plan for Evaluating for Nuclear Power Reactor License Termination Plans”

The U.S. Nuclear Regulatory Commission is noticing issuance of NUREG-1700, “Standard Review Plan for Evaluating Nuclear Power Reactor License Termination Plans.” The standard review plan (SRP) guides staff reviewers on performing safety reviews of license termination plans (LTPs). Although the SRP is intended to be used by the NRC staff in conducting reviews, it can be used by interested parties responsible for conducting their own licensing review or developing an LTP. The principal purpose of the SRP is to ensure the quality and uniformity of staff reviews and to present a well-defined base from which to evaluate the requirements. It is also the purpose of the SRP to make the information about regulatory matters widely available to improve the understanding of the staff's review process by interested members of the public and the nuclear industry.

For further details with respect to this action, the documents are available for inspection at the NRC's Public Electronic Room at http://www.nrc.gov.

Dated at Rockville, Maryland, this 11th day of May 2000.
For the Nuclear Regulatory Commission.
Robert A. Nelson,
Acting Chief, Decommissioning Branch, Division of Waste Management, Office of Nuclear Material Safety and Safeguards.

[FR Doc. 00-13949 Filed 6-2-00; 8:45 am]

BILLING CODE 7590-01-M